DEPARTMENT OF THE INTERIOR

Bureau of Indian Affairs

[201A2100DD/AABB003600/A0T902020.999900.253G]

Wichita and Affiliated Tribes (Wichita, Keechi, Waco & Tawakonie); Amendment to Liquor Ordinance

AGENCY: Bureau of Indian Affairs, Interior.

ACTION: Notice.

SUMMARY: This notice publishes the amendment to the Liquor Ordinance of the Wichita and Affiliated Tribes (Wichita, Keechi, Waco & Tawakonie). The liquor ordinance regulates and controls the possession, sale, manufacture, and distribution of alcohol on Wichita and Affiliated Tribes (Wichita, Keechi, Waco & Tawakonie) trust lands in conformity with the laws of the State of Oklahoma where applicable and necessary. Although the amendment was adopted on October 30, 2019, it does not take effect until published in the Federal Register.

DATES: This ordinance takes effect on June 15, 2020.

FOR FURTHER INFORMATION CONTACT: Ms. Sherry Lovin, Tribal Government Officer, Southern Plains Regional Office, Bureau of Indian Affairs, Post Box 368, Anadarko, Oklahoma 73005, telephone: (405) 247-1534 or (405) 247-6673, fax: (405) 247-1534; or Ms. Laurel Iron Cloud, Chief, Division of Tribal Government Services, Office of Indian Services, Bureau of Indian Affairs, 1849 C Street NW, MS-4513-MIB, Washington, DC 20240, telephone: (202) 513-7641.

SUPPLEMENTARY INFORMATION: Pursuant to the Act of August 15, 1953, Public Law 83-277, 67 Stat. 5886, 18 U.S.C. 1161, as interpreted by the Supreme Court in Rice v. Rehner, 463 U.S. 713 (1983), the Secretary of the Interior shall certify and publish in the Federal Register notice of adopted liquor control ordinances for the purpose of regulating liquor transactions in Indian country. On May 14, 2010, the Wichita and Affiliated Tribes Executive Committee duly adopted the Liquor Ordinance of the Wichita and Affiliated Tribes (Wichita, Keechi, Waco & Tawakonie). The Liquor Ordinance of the Wichita and Affiliated Tribes (Wichita, Keechi, Waco & Tawakonie) was published in the Federal Register on July 27, 2010, at 75 FR 44011 and a correction was published on August 18, 2010, at 75 FR 51102.

This notice is published in accordance with the delegated authority by the Secretary of the Interior to the Assistant Secretary—Indian Affairs. I certify that the Wichita and Affiliated Tribes Executive Committee duly adopted the amendment to the Liquor Ordinance of the Wichita and Affiliated Tribes (Wichita, Keechi, Waco & Tawakonie) by Resolution Number WT-20-014 on October 30, 2019.

Tara Sweeney,
Assistant Secretary—Indian Affairs.

The Liquor Ordinance of the Wichita and Affiliated Tribes (Wichita, Keechi, Waco & Tawakonie), Section 215, as amended, shall read as follows:

215. “Tribal Lands” means the 5.0574 acres of land held in trust by the United States for the benefit of the Wichita and Affiliated Tribes upon which a gaming facility of the Tribe known as Sugar Creek Casino exists, whose address is 4200 North Broadway, Hinton, Oklahoma 73047, described as:

All Interest in Surface and Surface Rights Only in and to a tract of land lying in the Southwest Quarter (SW/4) of Section Ten (10), Township Twelve (12) North, Range Eleven (11) West of the Indian Meridian, Caddo County, Oklahoma, being particularly described as follows:

COMMENCING at a Railroad Spike found for corner of the Southeast corner of said Southwest Quarter (SW/4);

THENCE North 00°15′47″ West, along the East line of said Southwest Quarter (SW/4), a distance of 227.41 feet;

THENCE South 89°44′13″ West, a distance of 70.03 feet to the POINT OF BEGINNING, said point being on the West Right of Way line of U.S. Highway 281 located 75.00 feet West of the centerline of said Highway as set forth by the Easement to the State of Oklahoma recorded at Book 79, Page 185;

THENCE South 89°40′46″ West, perpendicular to said Right of Way line, a distance of 208.00 feet;

THENCE South 00°19′14″ East, parallel to said Right of Way line, a distance of 143.29 feet;

THENCE South 89°44′13″ West, perpendicular to the East line of said Southwest Quarter (SW/4), a distance of 292.50 feet;

THENCE North 00°15′47″ West, parallel to said East line, a distance of 500.00 feet;

THENCE North 89°44′13″ East, a distance of 500.00 feet to a point on said West Right of Way line;

THENCE South 00°19′14″ East, along said West Right of Way line, a distance of 356.50 feet to the POINT OF BEGINNING.

Said tract of land containing 220,299 square feet or 5.0574 acres, more or less; and any lands the Tribe has been granted permanent use.

[FR Doc. 2020-10368 Filed 5-13-20; 8:45 am]

BILLING CODE 4337-15-P